DEPARTMENT OF JUSTICE

Drug Enforcement Administration

21 CFR Part 1308

[DEA-200C]

Schedules of Controlled Substances: Scheduling of Gamma Hydroxybutyric Acid Into Schedule I; Correction

AGENCY: Drug Enforcement Administration, Department of Justice.

ACTION: Correction to final regulations.

SUMMARY: This document contains corrections to the final regulations (DEA-200F) which were published on Monday, March 13, 2000 (65 FR 13235). These regulations relate to the placement of gamma hydroxybutyric acid (GHB) and its salts, isomers and salts of isomers into Schedule I of the Controlled Substances Act pursuant to Public Law 106-172.

EFFECTIVE DATE: April 3, 2000.

FOR FURTHER INFORMATION CONTACT: Frank Sapienza, Chief, Drug and Chemical Evaluation Section, Drug Enforcement Administration, Washington, DC 20537, (202) 307-7183.

SUPPLEMENTARY INFORMATION: The final regulations that are the subject of these corrections amend title 21, Code of Federal Regulations (CFR), chapter II. As published, the final regulations contained errors that could cause confusion. Specifically, the final regulations published on March 13, 2000 (65 FR 13235) did not take into account the amendment of 21 CFR 1308.13 that was included in a Final Rule published by DEA on July 13, 1999 (64 FR 37673), which became effective on August 12, 1999.

Accordingly, the publication on March 13, 2000, of the final regulations to amend part 1308 which were the subject of Federal Register document 00-5925 (65 FR 13235), is corrected as follows:

PART 1308—[CORRECTED]

1. The authority citation for 21 CFR part 1308 continues to read as follows:

Authority: 21 U.S.C. 811, 812, 871(b) unless otherwise noted.

2. On page 13238, in the third column, correct amendatory instruction #3 to read as follows:

* * * * *

3. Section 1308.13 is amended by redesignating the existing paragraphs (c)(5) through (c)(12) as (c)(6) through (c)(13) and by adding a new paragraph (c)(5) to read as follows:

* * * * *

Dated: March 27, 2000.
Donnie R. Marshall,
Deputy Administrator.

[FR Doc. 00-8047 Filed 3-31-00; 8:45 am]

BILLING CODE 4410-09-M